DEPARTMENT OF HOMELAND SECURITY

Coast Guard

33 CFR Part 100

[Docket Number USCG-2018-0064]

RIN 1625-AA08

Special Local Regulations; Sector Ohio Valley Annual and Recurring Special Local Regulations Update

AGENCY: Coast Guard, DHS.

ACTION: Notice of proposed rulemaking.

SUMMARY: The Coast Guard proposes to amend its special local regulations for recurring marine parades, regattas, and other events in Coast Guard Sector Ohio Valley. This rule, if adopted, would add 17 new recurring special local regulations, remove 9 special local regulations, and amend the event/sponsor, dates, and/or regulated areas for 48 recurring special local regulations already listed in the current table. This action in necessary to protect spectators, participants, and vessels from the hazards associated with annual marine events. This proposed rulemaking would restrict vessel traffic in the designated areas during the events unless authorized by the Captain of the Port Sector Ohio Valley or a designated representative. We invite your comments on this proposed rulemaking.

DATES: Comments and related material must be received by the Coast Guard on or before April 18, 2018.

ADDRESSES: You may submit comments identified by docket number USCG-2018-0064 using the Federal eRulemaking Portal at http://www.regulations.gov. See the “Public Participation and Request for Comments” portion of the SUPPLEMENTARY INFORMATION section for further instructions on submitting comments.

FOR FURTHER INFORMATION CONTACT: If you have questions on this proposed rule, call or email Petty Officer Joshua Herriott, Sector Ohio Valley, U.S. Coast Guard; telephone (502) 779-5343, email Joshua.R.Herriott@uscg.mil.

SUPPLEMENTARY INFORMATION:

I. Table of Abbreviations

CFR Code of Federal Regulations

COTP Captain of the Port Sector Ohio Valley

DHS Department of Homeland Security

FR Federal Register

NPRM Notice of proposed rulemaking

§ Section

U.S.C. United States Code

II. Background, Purpose, and Legal Basis

The Captain of the Port Sector Ohio Valley (COTP) proposes to amend 33 CFR 100.801 to update the table of annual recurring special local regulations in Coast Guard Sector Ohio Valley. The current list of annual and recurring special local regulations occurring in Sector Ohio Valley is published in Table 1 of 33 CFR part 100.801. The table was created through the final rule published on June 2, 2017 (82 FR 25511). It needs to be amended to include new regattas and marine events expected to recur annually or biannually, remove special local regulations no longer recurring, and provide new information on existing special local regulations.

The proposed annually recurring special local regulations are necessary to provide for the safety of life on navigable waters during the events. Based on the nature of these marine events, large numbers of participants and spectators, and event locations, the COTP has determined that the events listed in this proposed rule could pose a risk to participants or waterways users if the normal vessel traffic were to interfere with the events. Possible hazards include risks of injury or death from near or actual contact among participant vessels and spectators or mariners traversing through the regulated area. In order to protect the safety of all waterway users, including event participants and spectators, this proposed rule would establish special local regulations for the time and location of each marine event. Vessels would not be permitted to enter the regulated areas unless authorized by the COTP or a designated representative. The Coast Guard proposes this rulemaking under authority in 33 U.S.C. 1233.

The Coast Guard is issuing this notice of proposed rulemaking (NPRM) with a 15-day prior notice and opportunity to comment pursuant to section (d)(3) of the Administrative Procedure Act (APA) (5 U.S.C. 553(d)). This provision authorizes an agency to publish a rule in less than 30 days before its effective date for “good cause found and published with the rule.” Under 5 U.S.C. 553(b)(B), the Coast Guard finds that good cause exists for publishing this NPRM with a 15-day comment period because it is impractical to provide a 30-day comment period. These proposed regulated areas are necessary to ensure the safety of vessels and persons during the marine events. It is impracticable to publish an NPRM with a 30-day comment period because we must establish some of these updates as early as the end of April 2018. A 15-day comment period would allow the Coast Guard to provide for public notice and comment, but also update the regulated areas soon enough that the length of the notice and comment period does not compromise public safety.

III. Discussion of Proposed Rule

The COTP proposes to amend its special local regulations for annual events in Coast Guard Sector Ohio Valley listed in Table 1 of 33 CFR 165.801. This section requires amendment from time to time to properly reflect the recurring special local regulations in Sector Ohio Valley. This rule would add 17 new recurring special local regulations, remove 9 special local regulations no longer recurring, and amend the event/sponsor, dates, and/or regulated areas for 48 recurring special local regulations already listed in the current table. Other than these 17 additions, 9 removals, and 48 changes to the event/sponsor, dates, and/or locations of certain events, the regulations of 33 CFR 100.801 and other provisions in Table 1 of § 100.801 remain unchanged.

The Coast Guard proposes to revise special local regulations in 33 CFR 100.801 Table 1 by adding 17 new special local regulations. The 17 special local regulations being added to Table 1 are below:

Date | Event/sponsor | Ohio Valley location | Regulated area
2 days—One weekend in July | Marietta Riverfront Roar Regatta | Marietta, OH | Ohio River, Mile 171.6-172.6 (Ohio).
1 day—One weekend in November or December | Charleston Lighted Boat Parade | Charleston, WV | Kanawha River, Mile 54.3-60.3 (West Virginia).
1 day—One weekend in August | YMCA River Swim | Charleston, WV | Kanawha River, Mile 58.3-60.3 (West Virginia).
1 day—One weekend in April | Lindamood Cup | Marietta, OH | Muskingum River, Mile 0.5-1.5 (Ohio).
2 days—One weekend in June | New Martinsville Vintage Regatta | New Martinsville, WV | Ohio River Mile 127.5-128.5 (West Virginia).
3 days—One weekend in August | Grand Prix of Louisville | Louisville, KY | Ohio River, Mile 601.0-605.0 (Kentucky).
2 days—Fourth weekend in March | Oak Ridge Rowing Association/Atomic City Turn and Burn | Oak Ridge, TN | Clinch River, Mile 48.5-52.0 (Tennessee).
3 days—Second or third weekend in March | Oak Ridge Rowing Association/Cardinal Invitational | Oak Ridge, TN | Clinch River, Mile 48.5-52.0 (Tennessee).
3 days—Third weekend in April | Oak Ridge Rowing Association/SIRA Regatta | Oak Ridge, TN | Clinch River, Mile 48.5-52.0 (Tennessee).
3 days—Fifth weekend in April | Oak Ridge Rowing Association/Dogwood Junior Regatta | Oak Ridge, TN | Clinch River, Mile 48.5-52.0 (Tennessee).
3 days—Second weekend in May | Oak Ridge Rowing Association/Big 12 Championships | Oak Ridge, TN | Clinch River, Mile 48.5-52.0 (Tennessee).
3 days—Third weekend in May | Oak Ridge Rowing Association/Dogwood Masters | Oak Ridge, TN | Clinch River, Mile 48.5-52.0 (Tennessee).
1 day—First weekend in June | Visit Knoxville/Knoxville Powerboat Classic | Knoxville, TN | Tennessee River, Mile 646.4-649.0 (Tennessee).
1 day—first Sunday in August | Above the Fold Events/Riverbluff Triathlon | Ashland City, TN | Cumberland River, Mile 157.0-159.5 (Tennessee).
3 days—First weekend in June | Outdoor Chattanooga/Chattanooga Swim Festival | Chattanooga, TN | Tennessee River, Mile 454.0-468.0 (Tennessee).
1 day—Fourth or fifth weekend in September | Knoxville Open Water Swimmers/Bridges to Bluffs | Knoxville, TN | Tennessee River, Mile 647-642.5 (Tennessee).
1 day—Third Sunday in September | Team Rocket Tri Club/Swim Hobbs Island | Huntsville, AL | Tennessee River, Mile 332.3-338.0 (Alabama).

The Coast Guard also proposes to revise regulations at 33 CFR 100.801 Table 1 by removing the following 9 existing special local regulations that are no longer recurring, with reference by line number to the current Table 1 of 33 CFR 100.801. The 9 existing special local regulations being removed are below:

Line | Date | Event/sponsor | Ohio Valley location | Regulated area
1 | The first Saturday in April | University of Charleston Rowing/West Virginia Governor's Cup Regatta | Charleston, WV | Kanawah River, Mile 59.9-61.4 (West Virginia).
3 | 1 day—Third or fourth weekend in May | REV3/REV3 Triathlon | Knoxville, TN | Tennessee River, Mile 646.0-649.0 (Tennessee).
5 | 1 day—Second weekend in June | Chattanooga Parks and Rec/Chattanooga River Rats Open Water Swim | Chattanooga, TN | Tennessee River, Mile 464.0-469.0 (Tennessee).
30 | 1 day—Saturday before Labor Day | Wheeling dragon boat race | Wheeling, WV | Ohio River mile 90.4-91.5 (West Virginia).
38 | 1 day—Third weekend in November | TREC-RACE/Pangorge | Chattanooga, TN | Tennessee River, Mile 44.0-455.0 (Tennessee).
43 | 1 day—second or third Saturday in July | Allegheny Mountain LMSC/Search for Monongy | Pittsburgh, PA | Allegheny River mile 0.0-0.6 (Pennsylvania).
51 | 2 days—First weekend in August | Buckeye Outboard Association/Portsmouth Challenge | Portsmouth, OH | Ohio River, Mile 355.3-356.7 (Ohio).
63 | 1 day—Fourth weekend in October | Chattajack | Chattanooga, TN | Tennessee River, Mile 463.7-464.5 (Tennessee).
66 | 1 day—Last weekend in July | Music City SUP Race | Nashville, TN | Cumberland River, Mile 190.0-191.5 (Tennessee).

In addition, the Coast Guard proposes to revise regulations in 33 CFR 100.801 Table 1 by amending 48 existing special local regulations listed in the table. The amendments involve changes to the marine event event/sponsor title, dates, and/or regulated areas, with reference by line number to Table 1 of 33 CFR 100.801. The 48 special local regulations being amended are below:

Line | Date | Event/sponsor | Ohio Valley location | Regulated area | Revision (date/area)
2 | 1 day—During the last week of April or first week of May | Kentucky Derby Festival/Belle of Louisville Operating Board/Great Steamboat Race | Louisville, KY | Ohio River, Mile 595.0-605.3 (Kentucky). | area.
4 | 1 day—Third weekend in May | World Triathlon Corporation/IRONMAN 70.3 | Chattanooga, TN | Tennessee River, Mile 462.7-467.5 (Tennessee) | area.
7 | 2 days—First weekend of June | Thunder on the Bay/KDBA | Pisgah Bay, KY | Tennessee River, Mile 30.0 (Kentucky)
8 | 1 day—One of the first two weekends in August | Green Umbrella/Ohio River Paddlefest | Cincinnati, OH | Ohio River, Mile 458.5-476.4 (Ohio and Kentucky) | area.
9 | 1 day—Fourth or fifth Sunday in September | Green Umbrella/Great Ohio River Swim | Cincinnati, OH | Ohio River, Mile 468.8-471.2 (Ohio and Kentucky) | area.
10 | 1 day—One of the last two weekends in September | Ohio River Open Water Swim | Prospect, KY | Ohio River, Mile 587.0-591.0 (Kentucky) | area.
11 | 2 days—One of the first three weekends in September | Louisville Dragon Boat Festival | Louisville, KY | Ohio River, Mile 602.0-604.5 (Kentucky) | date and area.
12 | 1 day—Third or fourth Sunday of July | Tucson Racing/Cincinnati Triathlon | Cincinnati, OH | Ohio River, Mile 468.3-471.2 (Ohio) | area.
13 | 2 days—One of the first two weekends in July | Thunder on the Bay/KDBA | Pisgah Bay, KY | Tennessee River, Mile 30.0 (Kentucky) | event/sponsor and date.
14 | 1 day—Second weekend in July | Bradley Dean/Renaissance Man Triathlon | Florence, AL | Tennessee River, Mile 254.0-258.0 (Alabama) | area.
15 | 3 days—The last weekend in June or one of the first two weekends in July | Madison Regatta, Inc./Madison Regatta | Madison, IN | Ohio River, Mile 554.0-561.0 (Indiana) | date and area.
16 | 1 day—One weekend in June | Louisville Race the Bridge Triathlon | Louisville, KY | Ohio River, Mile 600.5-604.0 (Kentucky) | date and area.
17 | 1 day—Fourth weekend in June | Team Magic/Chattanooga Waterfront Triathlon | Chattanooga, TN | Tennessee River, Mile 462.7-466.0 (Tennessee) | area.
18 | 1 day—Fourth weekend in July | Team Magic/Music City Triathlon | Nashville, TN | Cumberland River, Mile 189.7-192.3 (Tennessee) | area.
21 | 2 days—First weekend of August | Thunder on the Bay/KDBA | Pisgah Bay, KY | Tennessee River, Mile 30.0 (Kentucky) | event/sponsor.
22 | 2 days—One of the last three weekends in September or the first weekend in October | Captain Quarters Regatta | Louisville, KY | Ohio River, Mile 594.0-598.0 (Kentucky) | date and area.
23 | 2 days—One of the first three weekends in October | Norton Healthcare/Ironman Triathlon | Louisville, KY | Ohio River, Mile 600.5-605.5 (Kentucky) | date and area.
25 | 1 day—Last weekend in August | Tennessee Clean Water Network/Downtown Dragon Boat Races | Knoxville, TN | Tennessee River, Mile 646.3-648.7 (Tennessee) | area.
26 | 3 days—One weekend in August | Pro Water Cross Championships | Charleston, WV | Kanawha River, Mile 56.7-57.6 (West Virginia) | event/sponsor and date.
27 | 2 days—One weekend in July | Huntington Classic Regatta | Huntington, WV | Ohio River, Mile 307.3-309.3 (West Virginia) | date.
31 | 1 day—One of the first three weekends in September | Cumberland River Compact/Cumberland River Dragon Boat Festival | Nashville, TN | Cumberland River, Mile 189.7-192.1 (Tennessee) | date and area.
32 | 2 days—One of the first three weekends in September | State Dock/Cumberland Poker Run | Jamestown, KY | Lake Cumberland (Kentucky) | date.
33 | 3 days—One of the first three weekends in September | Sailing for a Cure Foundation/SFAC Fleur de Lis Regatta | Louisville, KY | Ohio River, Mile 600.0-605.0 (Kentucky) | date and area.
34 | 1 day—Last weekend in September | World Triathlon Corporation/IRONMAN Chattanooga | Chattanooga, TN | Tennessee River, Mile 462.7-467.5 (Tennessee) | area.
37 | 1 day—First or second weekend in October | Lookout Rowing Club/Chattanooga Head Race | Chattanooga, TN | Tennessee River, Mile 463.0-468.0 (Tennessee) | area.
39 | 3 days—First weekend in November | Atlanta Rowing Club/Head of the Hooch Rowing Regatta | Chattanooga, TN | Tennessee River, Mile 463.0-468.0 (Tennessee) | area.
41 | 1 day—During the last weekend in May or on Memorial Day | Louisville Metro Government/Mayor's Healthy Hometown Subway Fresh Fit, Hike, Bike and Paddle | Louisville, KY | Ohio River, Mile 601.0-604.5 (Kentucky) | date and area.
42 | 3 days—One of the last three weekends in June | Hadi Shrine/Evansville Shriners Festival/Freedom Festival | Evansville, IN | Ohio River, Mile 790.0-796.0 (Indiana) | area.
44 | 1 day—During the first week of July | Evansville Freedom Celebration/4th of July Freedom Celebration | Evansville, IN | Ohio River, Mile 790.0-797.0 (Indiana) | area.
45 | 1 day—First weekend in September or on Labor Day | Louisville Metro Government/Mayor's Healthy Hometown Subway Fresh Fit, Hike, Bike and Paddle | Louisville, KY | Ohio River, Mile 601.0-610.0 (Kentucky) | date and area.
46 | 2 days—One of the last three weekends in July | Dare to Care/KFC Mayor's Cup Paddle Sports Races/Voyageur Canoe World Championships | Louisville, KY | Ohio River, Mile 600.0-605.0 (Kentucky) | area.
47 | 3 days—One of the last two weekends in August | Kentucky Drag Boat Association/Thunder on the Green | Livermore, KY | Green River, Mile 69.0-72.5 (Kentucky) | date and area.
48 | 1 day—Fourth weekend in August | Team Rocket Tri-Club/Rocketman Triathlon | Huntsville, AL | Tennessee River, Mile 332.2-335.5 (Alabama) | area.
49 | 3 days—One of the last three weekends in September or first weekend in October | Hadi Shrine/Owensboro Air Show | Owensboro, KY | Ohio River, Mile 754.0-760.0 (Kentucky) | area.
50 | 1 day—Last weekend in July or first weekend in August | HealthyHuntington.org/St. Marys Tri-state Triathlon | Huntington, WV | Ohio River, Mile 307.3-308.3 (West Virginia) | date.
52 | 2 days—Sunday before Labor Day and Labor Day | Cincinnati Bell, WEBN, and Proctor and Gamble/Riverfest | Cincinnati, OH | Ohio River, Mile 463.0-477.0 (Kentucky and Ohio) and Licking River Mile 0.0-3.0 (Kentucky) | date and area.
53 | 1 Day—One Sunday in September | Ohio River Sternwheel Festival Committee Sternwheel race reenactment | Marietta, OH | Ohio River, Mile 170.5-172.5 (Ohio) | date.
54 | 1 Day—One Saturday in September or One weekend in September | Parkesburg Paddle Fest | Parkersburg, WV | Ohio River, Mile 184.3-188 (West Virginia) | date.
55 | 3 Days—Last weekend of September and/or first weekend in October | New Martinsville Records and Regatta Challenge Committee | New Martinsville, WV | Ohio River, Mile 128-129 (West Virginia) | date.
60 | 2 days—One weekend in August | POWERBOAT NATIONALS—Ravenswood Regatta | Ravenswood, WV | Ohio River, Mile 220.5-221.5 (West Virginia) | date.
61 | 3 days—One of the last three weekends in June | Lawrenceburg Regatta/Whiskey City Regatta | Lawrenceburg, IN | Ohio River, Mile 491.0-497.0 (Indiana) | area.
62 | 2 days—One of the last three weekends in September | Madison Vintage Thunder | Madison, IN | Ohio River, Mile 556.5-559.5 (Indiana) | date.
64 | 1 day—Third weekend in March | Vanderbilt Rowing/Vanderbilt Invite | Nashville, TN | Cumberland River, Mile 188.0-192.7 (Tennessee) | area.
65 | 3 days—First weekend in October | Vanderbilt Rowing/Music City Head Race | Nashville, TN | Cumberland River, Mile 189.5-196.0 (Tennessee) | date and area.
67 | 3 days—Third weekend in June | TM Thunder LLC/Thunder on the Cumberland | Nashville, TN | Cumberland River, Mile 189.6-192.3 (Tennessee) | area.
68 | 3 days—Second weekend in May | Vanderbilt Rowing/ACRA Henley | Nashville, TN | Cumberland River, Mile 188.0-194.0 (Tennessee) | area.
70 | 2 days—Third Friday and Saturday in April | Thunder Over Louisville | Louisville, KY | Ohio River, Mile 597.0-604.0 (Kentucky) | area.
71 | 3 days—The last weekend in August or one of the first two weekends in September | Evansville HydroFest | Evansville, IN | Ohio River, Mile 790.5-794.0 | date and area.

The amendments to Table 1 are necessary to ensure the safety of vessels and people during annual events taking place on or near navigable waters in Sector Ohio Valley. Although this proposed rule would be in effect year-round, the specific special local regulations listed in Table 1 of 33 CFR 100.801 would only be enforced during the specified period of time of annual events listed. In accordance with the regulations listed in 33 CFR 100.801(a)-(j), entry into these safety zones is prohibited unless authorized by the COTP or a designated representative. The regulatory text of the updated Table 1 of § 100.801 we are proposing appears at the end of this document.

IV. Regulatory Analyses

We developed this proposed rule after considering numerous statutes and Executive orders related to rulemaking. Below we summarize our analyses based on a number of these statutes and Executive orders and we discuss First Amendment rights of protestors.

A. Regulatory Planning and Review

Executive Orders 12866 and 13563 direct agencies to assess the costs and benefits of available regulatory alternatives and, if regulation is necessary, to select regulatory approaches that maximize net benefits. Executive Order 13771 directs agencies to reduce regulation and control regulatory costs through a budgeting process.

This NPRM has not been designated a “significant regulatory action,” under Executive Order 12866. Accordingly, the NPRM has not been reviewed by the Office of Management and Budget (OMB), and pursuant to OMB guidance it is exempt from the requirements of Executive Order 13771.

This regulatory action determination is based on the size, location, and duration of the special local regulations. These areas are limited in size and duration, and usually do not affect high vessel traffic areas. Moreover, the Coast Guard would issue a Broadcast Notice to Mariners via VHF-FM marine channel 16 about the areas, and the rule would allow vessels to seek permission to enter the areas.

B. Impact on Small Entities

The Regulatory Flexibility Act of 1980, 5 U.S.C. 601-612, as amended, requires federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this proposed rule would not have a significant economic impact on a substantial number of small entities.

While some owners or operators of vessels intending to transit the regulated areas may be small entities, for the reasons stated in section IV.A above, this proposed rule would not have a significant economic impact on any vessel owner or operator.

If you think that your business, organization, or governmental jurisdiction qualifies as a small entity and that this rule would have a significant economic impact on it, please submit a comment (see ADDRESSES) explaining why you think it qualifies and how and to what degree this rule would economically affect it.

Under section 213(a) of the Small Business Regulatory Enforcement Fairness Act of 1996 (Pub. L. 104-121), we want to assist small entities in understanding this proposed rule. If the proposed rule would affect your small business, organization, or governmental jurisdiction and you have questions concerning its provisions or options for compliance, please contact the person listed in the FOR FURTHER INFORMATION CONTACT section. The Coast Guard will not retaliate against small entities that question or complain about this proposed rule or any policy or action of the Coast Guard.

C. Collection of Information

This proposed rule will not call for a new collection of information under the Paperwork Reduction Act of 1995 (44 U.S.C. 3501-3520.).

D. Federalism and Indian Tribal Governments

A rule has implications for federalism under Executive Order 13132, Federalism, if it has a substantial direct effect on the States, on the relationship between the national government and the States, or on the distribution of power and responsibilities among the various levels of government. We have analyzed this proposed rule under that Order and have determined that it is consistent with the fundamental federalism principles and preemption requirements described in Executive Order 13132.

Also, this proposed rule does not have tribal implications under Executive Order 13175, Consultation and Coordination with Indian Tribal Governments, because it does not have a substantial direct effect on one or more Indian tribes, on the relationship between the Federal Government and Indian tribes, or on the distribution of power and responsibilities between the Federal Government and Indian tribes. If you believe this proposed rule has implications for federalism or Indian tribes, please contact the person listed in the FOR FURTHER INFORMATION CONTACT section above.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this proposed rule will not result in such an expenditure, we do discuss the effects of this rule elsewhere in this preamble.

F. Environment

We have analyzed this proposed rule under Department of Homeland Security Management Directive 023-01 and Commandant Instruction M16475.lD, which guide the Coast Guard in complying with the National Environmental Policy Act of 1969 (NEPA)(42 U.S.C. 4321-4370f), and have made a preliminary determination that this action is one of a category of actions that do not individually or cumulatively have a significant effect on the human environment. Normally such actions are categorically excluded from further review under paragraph L61 of Appendix A, Table 1 of DHS Instruction Manual 023-01-001-01, Rev. 01. A preliminary Record of Environmental Consideration supporting this determination is available in the docket where indicated under ADDRESSES. We seek any comments or information that may lead to the discovery of a significant environmental impact from this proposed rule.

G. Protest Activities

The Coast Guard respects the First Amendment rights of protesters. Protesters are asked to contact the person listed in the FOR FURTHER INFORMATION CONTACT section to coordinate protest activities so that your message can be received without jeopardizing the safety or security of people, places or vessels.

V. Public Participation and Request for Comments

We view public participation as essential to effective rulemaking, and will consider all comments and material received during the comment period. Your comment can help shape the outcome of this rulemaking. If you submit a comment, please include the docket number for this rulemaking, indicate the specific section of this document to which each comment applies, and provide a reason for each suggestion or recommendation.

We encourage you to submit comments through the Federal eRulemaking Portal at http://www.regulations.gov. If your material cannot be submitted using http://www.regulations.gov, contact the person in the FOR FURTHER INFORMATION CONTACT section of this document for alternate instructions.

We accept anonymous comments. All comments received will be posted without change to http://www.regulations.gov and will include any personal information you have provided. For more about privacy and the docket, visit http://www.regulations.gov/privacyNotice.

Documents mentioned in this NPRM as being available in the docket, and all public comments, will be in our online docket at http://www.regulations.gov and can be viewed by following that website's instructions. Additionally, if you go to the online docket and sign up for email alerts, you will be notified when comments are posted or a final rule is published.

List of Subjects in 33 CFR Part 100

Marine safety, Navigation (water), Reporting and recordkeeping requirements, Waterways.

For the reasons discussed in the preamble, the U.S. Coast Guard proposes to amend 33 CFR part 100 as follows:

PART 100— SAFETY OF LIFE ON NAVIGABLE WATERWAYS

1. The authority citation for part 100 continues to read as follows:

Authority: 33 U.S.C. 1233.

2. In § 100.801, revise Table 1 to read as follows:

§ 100.801 Annual Marine Events in the Eighth Coast Guard District

Date | Event/sponsor | Ohio Valley location | Regulated area
1. 1 day—During the last week of April or first week of May | Kentucky Derby Festival/Belle of Louisville Operating Board/Great Steamboat Race | Louisville, KY | Ohio River, Mile 595.0-605.3 (Kentucky).
2. 1 day—Third weekend in May | World Triathlon Corporation/IRONMAN 70.3 | Chattanooga, TN | Tennessee River, Mile 462.7-467.5 (Tennessee).
3. 1 day—Third or fourth weekend in June | Greater Morgantown Convention and Visitors Bureau/Mountaineer Triathlon | Morgantown, WV | Monongahela River, Mile 101.0-102.0 (West Virginia).
4. 2 days—First weekend of June | Thunder on the Bay/KDBA | Pisgah Bay, KY | Tennessee River, Mile 30.0 (Kentucky).
5. 1 day—One of the first two weekends in August | Green Umbrella/Ohio River Paddlefest | Cincinnati, OH | Ohio River, Mile 458.5-476.4 (Ohio and Kentucky).
6. 1 day—Fourth or fifth Sunday in September | Green Umbrella/Great Ohio River Swim | Cincinnati, OH | Ohio River, Mile 468.8-471.2 (Ohio and Kentucky).
7. 1 day—One of the last two weekends in September | Ohio River Open Water Swim | Prospect, KY | Ohio River, Mile 587.0-591.0 (Kentucky).
8. 2 days— One of the first three weekends in September | Louisville Dragon Boat Festival | Louisville, KY | Ohio River, Mile 602.0-604.5 (Kentucky).
9. 1 day—Third or fourth Sunday of July | Tucson Racing/Cincinnati Triathlon | Cincinnati, OH | Ohio River, Mile 468.3-471.2 (Ohio).
10. 2 days—One of the first two weekends in July | Thunder on the Bay/KDBA | Pisgah Bay, KY | Tennessee River, Mile 30.0 (Kentucky).
11. 1 day—Second weekend in July | Bradley Dean/Renaissance Man Triathlon | Florence, AL | Tennessee River, Mile 254.0-258.0 (Alabama).
12. 3 days— The last weekend in June or one of the first two weekends in July | Madison Regatta, Inc./Madison Regatta | Madison, IN | Ohio River, Mile 554.0-561.0 (Indiana).
13. 1 day— One weekend in June | Louisville Race the Bridge Triathlon | Louisville, KY | Ohio River, Mile 600.5-604.0 (Kentucky).
14. 1 day—Fourth weekend in June | Team Magic/Chattanooga Waterfront Triathlon | Chattanooga, TN | Tennessee River, Mile 462.7-466.0 (Tennessee).
15. 1 day—Fourth weekend in July | Team Magic/Music City Triathlon | Nashville, TN | Cumberland River, Mile 189.7-192.3 (Tennessee).
16. 2 days—Last two weeks in July or first three weeks of August | Friends of the Riverfront Inc./Pittsburgh Triathlon and Adventure Races | Pittsburgh, PA | Allegheny River, Mile 0.0-1.5 (Pennsylvania).
17. 3 days—First week of August | EQT Pittsburgh Three Rivers Regatta | Pittsburgh, PA | Ohio River, Mile 0.0-0.5, Allegheny River, Mile 0.0-0.6, and Monongahela River, Mile 0.0-0.5(Pennsylvania).
18. 2 days—First weekend of August | Thunder on the Bay/KDBA | Pisgah Bay, KY | Tennessee River, Mile 30.0 (Kentucky).
19. 2 days—One of the last three weekends in September or the first weekend in October | Captain Quarters Regatta | Louisville, KY | Ohio River, Mile 594.0-598.0 (Kentucky).
20. 2 days— One of the first three weekends in October | Norton Healthcare/Ironman Triathlon | Louisville, KY | Ohio River, Mile 600.5-605.5 (Kentucky).
21. 2 days—Third full weekend (Saturday and Sunday) in August | Ohio County Tourism/Rising Sun Boat Races | Rising Sun, IN | Ohio River, Mile 504.0-508.0 (Indiana and Kentucky).
22. 1 day—Last weekend in August | Tennessee Clean Water Network/Downtown Dragon Boat Races | Knoxville, TN | Tennessee River, Mile 646.3-648.7 (Tennessee).
23. 3 days—One weekend in August | Pro Water Cross Championships | Charleston, WV | Kanawha River, Mile 56.7-57.6 (West Virginia).
24. 2 days—One weekend in July | Huntington Classic Regatta | Huntington, WV | Ohio River, Mile 307.3-309.3 (West Virginia).
25. 2 days—Labor Day weekend | Wheeling Vintage Race Boat Association Ohio/Wheeling Vintage Regatta | Wheeling, WV | Ohio River, Mile 90.4-91.5 (West Virginia).
26. 2 days—weekend before Labor Day | SUP3Rivers The Southside Outside | Pittsburgh, PA | Monongahela River, Mile 0.0-3.09 Allegheny River Mile 0.0-0.25 (Pennsylvania).
27. 1 day—One of the first three weekends in September | Cumberland River Compact/Cumberland River Dragon Boat Festival | Nashville, TN | Cumberland River, Mile 189.7-192.1 (Tennessee).
28. 2 days—One of the first three weekends in September | State Dock/Cumberland Poker Run | Jamestown, KY | Lake Cumberland (Kentucky).
29. 3 days—One of the first three weekends in September | Sailing for a Cure Foundation/SFAC Fleur de Lis Regatta | Louisville, KY | Ohio River, Mile 600.0-605.0 (Kentucky).
30. 1 day—Last weekend in September | World Triathlon Corporation/IRONMAN Chattanooga | Chattanooga, TN | Tennessee River, Mile 462.7-467.5 (Tennessee).
31. 1 day—Second weekend in September | City of Clarksville/Clarksville Riverfest Cardboard Boat Regatta | Clarksville, TN | Cumberland River, Mile 125.0-126.0 (Tennessee).
32. 2 days—First weekend of October | Three Rivers Rowing Association/Head of the Ohio Regatta | Pittsburgh, PA | Allegheny River, Mile 0.0-4.0 (Pennsylvania).
33. 1 day—First or second weekend in October | Lookout Rowing Club/Chattanooga Head Race | Chattanooga, TN | Tennessee River, Mile 463.0-468.0 (Tennessee).
34. 3 days—First weekend in November | Atlanta Rowing Club/Head of the Hooch Rowing Regatta | Chattanooga, TN | Tennessee River, Mile 463.0-468.0 (Tennessee).
35. One Saturday in June or July | Paducah Summer Festival/Cross River Swim | Paducah, KY | Ohio River, Mile 934-936 (Kentucky).
36. 1 day—During the last weekend in May or on Memorial Day | Louisville Metro Government/Mayor's Healthy Hometown Subway Fresh Fit, Hike, Bike and Paddle | Louisville, KY | Ohio River, Mile 601.0-604.5 (Kentucky).
37. 3 days—One of the last three weekends in June | Hadi Shrine/Evansville Shriners Festival/Freedom Festival | Evansville, IN | Ohio River, Mile 790.0-796.0 (Indiana).
38. 1 day—During the first week of July | Evansville Freedom Celebration/4th of July Freedom Celebration | Evansville, IN | Ohio River, Mile 790.0-797.0 (Indiana).
39. 1 day—First weekend in September or on Labor Day | Louisville Metro Government/Mayor's Healthy Hometown Subway Fresh Fit, Hike, Bike and Paddle | Louisville, KY | Ohio River, Mile 601.0-610.0 (Kentucky).
40. 2 days—One of the last three weekends in July | Dare to Care/KFC Mayor's Cup Paddle Sports Races/Voyageur Canoe World Championships | Louisville, KY | Ohio River, Mile 600.0-605.0 (Kentucky).
41. 3 days—One of the last two weekends in August | Kentucky Drag Boat Association/Thunder on the Green | Livermore, KY | Green River, Mile 69.0-72.5 (Kentucky).
42. 1 day—Fourth weekend in August | Team Rocket Tri-Club/Rocketman Triathlon | Huntsville, AL | Tennessee River, Mile 332.2-335.5 (Alabama).
43. 3 days—One of the last three weekends in September or first weekend in October | Hadi Shrine/Owensboro Air Show | Owensboro, KY | Ohio River, Mile 754.0-760.0 (Kentucky).
44. 1 day—Last weekend in July or first weekend in August | HealthyHuntington.org/St. Marys Tri-state Triathlon | Huntington, WV | Ohio River, Mile 307.3-308.3 (West Virginia).
45. 2 days—Sunday before Labor Day and Labor Day | Cincinnati Bell, WEBN, and Proctor and Gamble/Riverfest | Cincinnati, OH | Ohio River, Mile 463.0-477.0 (Kentucky and Ohio) and Licking River Mile 0.0-3.0 (Kentucky).
46. 1 Day—One Sunday in September | Ohio River Sternwheel Festival Committee Sternwheel race reenactment | Marietta, OH | Ohio River, Mile 170.5-172.5 (Ohio).
47. 1 Day—One Saturday in September or One weekend in September | Parkesburg Paddle Fest | Parkersburg, WV | Ohio River, Mile 184.3-188 (West Virginia).
48. 3 Days—Last weekend of September and/or first weekend in October | New Martinsville Records and Regatta Challenge Committee | New Martinsville, WV | Ohio River, Mile 128-129 (West Virginia).
49. First weekend in July | Eddyville Creek Marina/Thunder Over Eddy Bay | Eddyville, KY | Cumberland River, Mile 46.0-47.0 (Kentucky).
50. First or second weekend of July | Prizer Point Marina/4th of July Celebration | Cadiz, KY | Cumberland River, Mile 54.0-55.09 (Kentucky).
51. 2 days—last weekend in May or first weekend in June | Visit Knoxville/Racing on the Tennessee | Knoxville, TN | Tennessee River, Mile 647.0-648.0 (Tennessee).
52. 1 day—First or second weekend in August | Riverbluff Triathlon | Ashland City, TN | Cumberland River, Mile 157.0-159.0 (Tennessee).
53. 2 days—One weekend in August | POWERBOAT NATIONALS—Ravenswood Regatta | Ravenswood, WV | Ohio River, Mile 220.5-221.5 (West Virginia).
54. 3 days—One of the last three weekends in June | Lawrenceburg Regatta/Whiskey City Regatta | Lawrenceburg, IN | Ohio River, Mile 491.0-497.0 (Indiana).
55. 2 days—One of the last three weekends in September | Madison Vintage Thunder | Madison, IN | Ohio River, Mile 556.5-559.5 (Indiana).
56. 1 day—Third weekend in March | Vanderbilt Rowing/Vanderbilt Invite | Nashville, TN | Cumberland River, Mile 188.0-192.7 (Tennessee).
57. 3 days—First or Second weekend in October | Vanderbilt Rowing/Music City Head Race | Nashville, TN | Cumberland River, Mile 189.5-196.0 (Tennessee).
58. 3 days—Third weekend in June | TM Thunder LLC/Thunder on the Cumberland | Nashville, TN | Cumberland River, Mile 189.6-192.3 (Tennessee).
59. 3 days—Second weekend in May | Vanderbilt Rowing/ACRA Henley | Nashville, TN | Cumberland River, Mile 188.0-194.0 (Tennessee).
60. 2 days—Third weekend in August | Kittanning Riverbration Boat Races | Kittanning, PA | Allegheny River, Mile 44.0-45.5 (Pennsylvania).
61. 2 days—Third Friday and Saturday in April | Thunder Over Louisville | Louisville, KY | Ohio River, Mile 597.0-604.0 (Kentucky).
62. 3 days—The last weekend in August or one of the first two weekends in September | Evansville HydroFest | Evansville, IN | Ohio River, Mile 790.5-794.0.
63. 2 days—One weekend in July | Marietta Riverfront Roar Regatta | Marietta, OH | Ohio River, Mile 171.6-172.6 (Ohio).
64. 1 day—One weekend in November or December | Charleston Lighted Boat Parade | Charleston, WV | Kanawha River, Mile 54.3-60.3 (West Virginia).
65. 1 day—One weekend in August | YMCA River Swim | Charleston, WV | Kanawha River, Mile 58.3-60.3 (West Virginia).
66. 1 day—One weekend in April | Lindamood Cup | Marietta, OH | Muskingum River, Mile 0.5-1.5 (Ohio).
67. 2 days—One weekend in June | New Martinsville Vintage Regatta | New Martinsville,WV | Ohio River Mile 127.5-128.5 (West Virginia).
68. 3 days—One weekend in August | Grand Prix of Louisville | Louisville, KY | Ohio River, Mile 601.0-605.0 (Kentucky).
69. 2 days—Fourth weekend in March | Oak Ridge Rowing Association/Atomic City Turn and Burn | Oak Ridge, TN | Clinch River, Mile 48.5-52.0 (Tennessee).
70. 3 days—Second or third weekend in March | Oak Ridge Rowing Association/Cardinal Invitational | Oak Ridge, TN | Clinch River, Mile 48.5-52.0 (Tennessee).
71. 3 days—Third weekend in April | Oak Ridge Rowing Association/SIRA Regatta | Oak Ridge, TN | Clinch River, Mile 48.5-52.0 (Tennessee).
72. 3 days—Fifth weekend in April | Oak Ridge Rowing Association/Dogwood Junior Regatta | Oak Ridge, TN | Clinch River, Mile 48.5-52.0 (Tennessee).
73. 3 days—Second weekend in May | Oak Ridge Rowing Association/Big 12 Championships | Oak Ridge, TN | Clinch River, Mile 48.5-52.0 (Tennessee).
74. 3 days—Third weekend in May | Oak Ridge Rowing Association/Dogwood Masters | Oak Ridge, TN | Clinch River, Mile 48.5-52.0 (Tennessee).
75. 1 day—First weekend in June | Visit Knoxville/Knoxville Powerboat Classic | Knoxville, TN | Tennessee River, Mile 646.4-649.0 (Tennessee).
76. 1 day—first Sunday in August | Above the Fold Events/Riverbluff Triathlon | Ashland City, TN | Cumberland River, Mile 157.0-159.5 (Tennessee).
77. 3 days—First weekend in June | Outdoor Chattanooga/Chattanooga Swim Festival | Chattanooga, TN | Tennessee River, Mile 454.0-468.0 (Tennessee).
78. 1 day—Fourth or fifth weekend in September | Knoxville Open Water Swimmers/Bridges to Bluffs | Knoxville, TN | Tennessee River, Mile 641.0-648.0 (Tennessee).
79. 1 day—Third Sunday in September | Team Rocket Tri Club/Swim Hobbs Island | Huntsville, AL | Tennessee River, Mile 332.3-338.0 (Alabama).

Dated: March 27, 2018.
M.B. Zamperini,
Captain, U.S. Coast Guard, Captain of the Port Sector Ohio Valley.

[FR Doc. 2018-06740 Filed 4-2-18; 8:45 am]

BILLING CODE 9110-04-P